COMMITTEE FOR THE IMPLEMENTATION OF TEXTILE AGREEMENTS

Adjustment of Import Limits for Certain Cotton, Wool and Man-Made Fiber Textiles and Textile Products Produced or Manufactured in Indonesia

September 10, 2002.

AGENCY: Committee for the Implementation of Textile Agreements (CITA).

ACTION: Issuing a directive to the Commissioner of Customs adjusting limits.

EFFECTIVE DATE: September 17, 2002.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for swing, special shift, carryforward, and the replacement of previous swing donors with new swing donor categories for swing done previously.

A description of the textile and apparel categories in terms of HTS numbers is available in the CORRELATION: Textile and Apparel Categories with the Harmonized Tariff Schedule of the United States (see Federal Register notice 66 FR 65178, published on December 18, 2001). Also see 66 FR 63025, published on December 4, 2001.

James C. Leonard III,
Chairman, Committee for the Implementation of Textile Agreements.

Committee for the Implementation of Textile Agreements

September 10, 2002.

Commissioner of Customs,

Department of the Treasury, Washington, DC 20229.

Dear Commissioner: This directive amends, but does not cancel, the directive issued to you on November 27, 2001, by the Chairman, Committee for the Implementation of Textile Agreements. That directive concerns imports of certain cotton, wool, man-made fiber, silk blend and other vegetable fiber textiles and textile products, produced or manufactured in Indonesia and exported during the twelve-month period which began on January 1, 2002 and extends through December 31, 2002.

Effective on September 17, 2002, you are directed to adjust the limits for the categories listed below, as provided for under the Uruguay Round Agreement on Textiles and Clothing:

Category | Twelve-month restraint limit ¹
Levels in Group I |
225 | 10,998,531 square meters.
300/301 | 6,721,326 kilograms.
314-O ² | 79,444,987 square meters.
315-O ³ | 39,714,554 square meters.
317-O ⁴/617/326-O ⁵ | 23,145,453 square meters of which not more than 5,173,219 square meters shall be in Category 326-O.
334/335 | 367,506 dozen.
336/636 | 1,026,535 dozen.
338/339 | 2,061,940 dozen.
340/640 | 2,547,681 dozen.
341 | 1,594,596 dozen.
345 | 648,078 dozen.
351/651 | 757,966 dozen.
433 | 13,003 dozen.
447 | 21,041 dozen.
448 | 24,427 dozen.
619/620 | 14,777,713 square meters.
625/626/627/628/629-O ⁶ | 46,236,882 square meters.
634/635 | 466,441 dozen.
638/639 | 2,317,740 dozen.
641 | 3,664,265 dozen.
643 | 543,816 numbers.
644 | 694,218 numbers.
645/646 | 1,230,245 dozen.
647/648 | 4,856,986 dozen.
¹ The limits have not been adjusted to account for any imports exported after December 31, 2001.
²Category 314-O: all HTS numbers except 5209.51.6015.
³ Category 315-O: all HTS numbers except 5208.52.4055.
⁴ Category 317-O: all HTS numbers except 5208.59.2085.
⁵ Category 326-O: all HTS numbers except 5208.59.2015, 5209.59.0015 and 5211.59.0015.
⁶ Category 625/626/627/628; Category 629-O: all HTS numbers except 5408.34.9085 and 5516.24.0085.

The Committee for the Implementation of Textile Agreements has determined that these actions fall within the foreign affairs exception to the rulemaking provisions of 5 U.S.C. 553(a)(1).

Sincerely,

James C. Leonard III,

Chairman, Committee for the Implementation of Textile Agreements.

[FR Doc.02-23527 Filed 9-16-02; 8:45 am]

BILLING CODE 3510-DR-S